SURFACE TRANSPORTATION BOARD

[Docket No. AB 1269 (Sub-No. 1X)]

Iowa Traction Railway Company—Discontinuance of Service Exemption—in Cerro Gordo County, Iowa

Iowa Traction Railway Company (Iowa Railway) has filed a verified notice of exemption under 49 CFR part 1152 subpart F—Exempt Abandonments and Discontinuances of Service to discontinue service over a three-mile rail line between milepost 155.5, located approximately 100 yards south of Elm Drive, and milepost 152.5, located approximately 600 yards north of County Highway B-20, in Mason City (the City), Cerro Gordo County, Iowa (the Line). The Line traverses U.S. Postal Service Zip Code 50401.

Iowa Railway has certified that: (1) No local traffic has moved over the Line for at least two years; (2) no overhead traffic has moved over the Line for at least two years; (3) no formal complaint filed by a user of rail service on the Line (or a state or local government entity acting on behalf of such user) regarding cessation of service over the Line either is pending with the Surface Transportation Board or any U.S. District Court or has been decided in favor of a complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) ¹ to subsidize continued rail service has been received, this exemption will be effective on May 6, 2020, unless stayed pending reconsideration. Petitions to stay that do not involve environmental issues and formal expressions of intent to file an OFA to subsidize continued rail service under 49 CFR 1152.27(c)(2) ² must be filed by April 16, 2020.³ Petitions for reconsideration must be filed by April 27, 2020, with the Surface Transportation Board, 395 E Street SW, Washington, DC 20423-0001.

¹ Persons interested in submitting an OFA to subsidize continued rail service must first file a formal expression of intent to file an offer, indicating the intent to file an OFA for subsidy and demonstrating that they are preliminarily financially responsible. See 49 CFR 1152.27(c)(2)(i).

² The filing fee for OFAs can be found at 49 CFR 1002.2(f)(25).

³ As explained in the Board's decision served concurrently in this docket, requests for issuance of a notice of interim trail use or abandonment under the National Trails System Act will not be accepted. Moreover, because this is a discontinuance proceeding and not an abandonment, public use conditions are not appropriate. Furthermore, no environmental review is required because the Line was previously abandoned and an environmental review was conducted in that proceeding. See Chi. & N. W. Transp. Co.—Aban. Exemption—Mason City, Iowa, AB 1 (Sub-No. 205X) (ICC served Jan. 19, 1988) (environmental review).

A copy of any petition filed with Board should be sent to Iowa Railway's representative, Thomas F. McFarland, Thomas F. McFarland, P.C., 208 South LaSalle Street, Suite 1666, Chicago, IL 60604-1228.

If the verified notice contains false or misleading information, the exemption is void ab initio.

Board decisions and notices are available at www.stb.gov.

Decided: April 1, 2020.
By the Board, Allison C. Davis, Director, Office of Proceedings.
Kenyatta Clay,
Clearance Clerk.

[FR Doc. 2020-07174 Filed 4-3-20; 8:45 am]

BILLING CODE 4915-01-P